DEPARTMENT OF COMMERCE

National Telecommunications and Information Administration

Presidential Memorandum on Spectrum Policy for the 21st Century

AGENCY: National Telecommunications and Information Administration (NTIA), U.S. Department of Commerce.

ACTION: Notice, Memorandum for the Heads of Executive Departments and Agencies.

SUMMARY: On May 29, 2003, President George W. Bush issued the Presidential Memorandum on Spectrum Policy to the Heads of Executive Departments and Agencies announcing the Administration's commitment to promote the development and implementation of a United States spectrum policy for the 21st Century.¹ Due to the Federal Government's extensive use of spectrum and the dramatic changes in available spectrum-based technologies and uses of wireless voice and data communications systems, the Administration has determined that it is necessary to examine the existing legal and policy framework for spectrum management in order to unlock the economic value and entrepreneurial potential of U.S. spectrum assets for businesses, consumers, and Federal Government users. The Presidential Memorandum on Spectrum Policy establishes the “Spectrum Policy Initiative,” a comprehensive program consisting of activities, including the creation of an interagency task force and a series of public meetings, that will lead to the development of legislative and other recommendations for improving spectrum management procedures and policies for the Federal Government and to address State, local and private spectrum uses. The Spectrum Policy Initiative is designed to revise policies and procedures that promote more efficient and beneficial use of spectrum without harmful interference to critical incumbent spectrum users. This Notice, published by the National Telecommunications and Information Administration (NTIA) on behalf of the Secretary of Commerce, prints the text of the Presidential Memorandum on Spectrum Policy for the 21st Century in the Federal Register, as directed in section 8 of the Memorandum. The text of the Presidential Memorandum is printed in its entirety below.

¹ Presidential Memorandum for the Heads of Executive Departments and Agencies on Spectrum Policy for the 21st Century, released by the White House Office of the Press Secretary on June 5, 2003 (referred to as “Presidential Memorandum on Spectrum Policy” or “the Memorandum”) available at http://www.whitehouse.gov.

DATES: Memorandum issued on May 29, 2003.

FOR FURTHER INFORMATION CONTACT: Fredrick R. Wentland, Associate Administrator, National Telecommunications and Information Administration, Office of Spectrum Management, (202) 482-1850.

Background

On May 29, 2003, the President of the United States signed a Memorandum on Spectrum Policy for the 21st Century for the Heads of Executive Departments and Agencies which established the Administration's goals and policies for improving all elements of the spectrum management process. The Executive Memorandum, released by the White House Office of the Press Secretary on June 5, 2003, authorized and directed the Secretary of Commerce to publish the Memorandum in the Federal Register.² The NTIA, under delegated authority from the Secretary of Commerce, is publishing the Memorandum in the Federal Register. NTIA is the President's principal advisor on domestic and international telecommunications and spectrum policy. The text of the Presidential Memorandum on Spectrum Policy is printed below in its entirety.

² Id. at sec. 8.

Presidential Memorandum on Spectrum Policy for the 21st Century

Presidential Memo on Spectrum Policy

Memorandum for the Heads of Executive Departments and Agencies

Subject: Spectrum Policy for the 21st Century

The radio frequency spectrum is a vital and limited national resource. Spectrum contributes to significant technological innovation, job creation, and economic growth, and it enables military operations, communications among first responders to natural disasters and terrorist attacks, and scientific discovery.

Recent years have witnessed an explosion of spectrum-based technologies and uses of wireless voice and data communications systems by businesses, consumers, and Government. Today there are over 140 million wireless phone customers and, increasingly, businesses and consumers are installing systems that use unlicensed spectrum to allow wireless data, called Wireless Fidelity (WiFi), on their premises. The Federal Government makes extensive use of spectrum for radars, communications, geolocation/navigation, space operations, and other national and homeland security needs. We must unlock the economic value and entrepreneurial potential of U.S. spectrum assets while ensuring that sufficient spectrum is available to support critical Government functions.

The existing legal and policy framework for spectrum management has not kept pace with the dramatic changes in technology and spectrum use. Under the existing framework, the Government generally reviews every change in spectrum use, a process that is often slow and inflexible, and can discourage the introduction of new technology. Some spectrum users, including Government agencies, maintain that the existing spectrum process is insufficiently responsive to the need to protect current critical uses.

My Administration is committed to promoting the development and implementation of a U.S. spectrum policy for the 21st century that will: (a) Foster economic growth; (b) ensure our national and homeland security; (c) maintain U.S. global leadership in communications technology development and services; and (d) satisfy other vital U.S. needs in areas such as public safety, scientific research, Federal transportation infrastructure, and law enforcement. My Administration has already proposed several legislative changes or program initiatives to improve elements of the spectrum management process. These proposals would greatly enhance the Government's ability to efficiently manage spectrum. To further promote the development and implementation of a U.S. spectrum policy for the 21st century, I hereby direct the following:

Section 1. Establishment. There is established the “Spectrum Policy Initiative” (the “Initiative”) that shall consist of activities to develop recommendations for improving spectrum management policies and procedures for the Federal Government and to address State, local, and private spectrum use. The Secretary of Commerce shall chair and direct the work of the Initiative. The Initiative shall consist of two courses of spectrum-related activity: (a) an interagency task force that is created by section 3 of this memorandum; and (b) a series of public meetings consistent with section 4 of this memorandum. The interagency task force and the public meetings shall be convened under the auspices of the Department of Commerce and used by the Department to develop spectrum management reform proposals.

Sec. 2. Mission and Goals. The Initiative shall undertake a comprehensive review of spectrum management policies (including any relevant recommendations and findings of the study conducted pursuant to section 214 of the E-Government Act of 2002) with the objective of identifying recommendations for revising policies and procedures to promote more efficient and beneficial use of spectrum without harmful interference to critical incumbent users. The Department of Commerce shall prepare legislative and other recommendations to:

(a) Facilitate a modernized and improved spectrum management system;

(b) facilitate policy changes to create incentives for more efficient and beneficial use of spectrum and to provide a higher degree of predictability and certainty in the spectrum management process as it applies to incumbent users;

(c) develop policy tools to streamline the deployment of new and expanded services and technologies, while preserving national security, homeland security, and public safety, and encouraging scientific research; and

(d) develop means to address the critical spectrum needs of national security, homeland security, public safety, Federal transportation infrastructure, and science.

Sec. 3. Federal Government Spectrum Task Force. There is hereby established the Federal Government Spectrum Task Force (the “Task Force”) to focus on improving spectrum management policies and procedures to stimulate more efficient and beneficial use of Government spectrum. The Secretary of Commerce, or the Secretary's designee under this section, shall serve as Chairman of the Task Force.

(a) Membership of the Task Force. The Task Force shall consist exclusively of the heads of the executive branch departments, agencies, and offices listed below:

(1) The Department of State;

(2) The Department of the Treasury;

(3) The Department of Defense;

(4) The Department of Justice;

(5) The Department of the Interior;

(6) The Department of Agriculture;

(7) The Department of Commerce;

(8) The Department of Transportation;

(9) The Department of Energy;

(10) The Department of Homeland Security;

(11) The National Aeronautics and Space Administration;

(12) The Office of Management and Budget;

(13) The Office of Science and Technology Policy;

(14) Such other executive branch departments, agencies, or offices as the Chairman of the Task Force may designate; and

(15) Subject to the authority of the Director of the Office of Management and Budget, the Office of Project SAFECOM.

A member of the Task Force may designate, to perform the Task Force functions of the member, any person who is a part of the member's department, agency, or office, and who is a full-time officer or employee of the Federal Government.

(b) Functions of the Task Force. The functions of the Task Force are advisory and shall include, but are not limited to, producing a detailed set of recommendations for improving spectrum management policies and procedures to stimulate more efficient and beneficial use of spectrum by the Federal Government. The recommendations shall be consistent with the objectives set out in section 2 of this memorandum. The Task Force may hold meetings to obtain information and advice concerning spectrum policy from individuals in a manner that seeks their individual advice and does not involve collective judgment or consensus advice or deliberation. At the direction of the Chairman, the Task Force may establish subgroups consisting exclusively of Task Force members or their designees under this section, as appropriate.

Sec. 4. Recommendations to Address State, Local, and Private Spectrum Use. Consistent with the objectives set out in section 2 of this memorandum, the Department of Commerce, separately from the Task Force process, shall, in accordance with applicable law, conduct public meetings that will assist with that Department's development of a detailed set of recommendations for improving policies and procedures for use of spectrum by State and local governments and the private sector, as well as the spectrum management process as a whole. These meetings will involve public events to provide an opportunity for the input of the communications industry and other interested parties. Participants may include spectrum users, wireless equipment vendors, financial and industry analysts, economists, technologists, and consumer groups. Interested Federal, State, and local government agencies will be welcome to attend and participate. The Federal Communications Commission is also encouraged to participate in these activities and to provide input to the National Telecommunications and Information Administration at the Department of Commerce on these issues.

Sec. 5. Reports. The Secretary of Commerce, or the Secretary's designee, shall present to me, through the Assistant to the President for Economic Policy and Director of the National Economic Council and the Assistant to the President for National Security Affairs, in consultation with the Assistant to the President for Homeland Security, two separate reports no later than 1 year from the date of this memorandum, one of which shall contain recommendations developed under section 3 of this memorandum by the Task Force and the other containing recommendations developed under section 4.

Sec. 6. General Provisions.

(a) The heads of Federal Government departments and agencies shall assist the Chairman of the Task Force established by section 3 and provide information to the Task Force consistent with applicable law as may be necessary to carry out the functions of the Task Force. Each Federal department and agency shall bear its own expense for participating in the Task Force. To the extent permitted by law and within existing appropriations, the Department of Commerce shall provide funding and administrative support for the Task Force.

(b) Nothing in this memorandum shall be construed to impair or otherwise affect the functions of the Director of the Office of Management and Budget relating to budget, administrative, or legislative proposals.

Sec. 7. Judicial Review. This memorandum is intended only to improve the internal management of the Federal Government and is not intended to, and does not, create any right or benefit, substantive or procedural, enforceable at law or equity by a party against the United States, its departments, agencies, instrumentalities or entities, its officers or employees, or any other person.

Sec. 8. Publication. The Secretary of Commerce is authorized and directed to publish this memorandum in the Federal Register.

George W. Bush

* * * * *

Dated: January 6, 2004.
Kathy D. Smith,
Chief Counsel, National Telecommunications and Information Administration.

[FR Doc. 04-454 Filed 1-8-04; 8:45 am]

BILLING CODE 3510-60-P